DEPARTMENT OF VETERANS AFFAIRS

Voluntary Service National Advisory Committee; Notice of Meeting

The Department of Veterans Affairs (VA) gives under Public Law 92-463 (Federal Advisory Committee Act) that the Executive Committee to the Department of Veterans Affairs Voluntary Service (VAVS) National Advisory Committee (NAC) will meet October 15-16, 2007, at the Rosen Centre Hotel, Orlando, Florida. The sessions will begin at 8:30 a.m. each day and end at 5 p.m. on October 15 and at 12 noon on October 16. The meeting is open to the public.

The NAC consists of 59 national organizations and advises the Secretary, through the Under Secretary of Health, on the coordination and promotion of volunteer activities within VA health care facilities. The Executive Committee consists of 19 representations from the NAC member organizations and acts as the NAC governing body during the period between NAC annual meetings.

On October 15, agenda topics will include NAC goals and objectives, the minutes of the May 2007 meeting, a Veterans Health Administration update, a VAVS update of the Voluntary Service group's progress, and emerging issues since the May 2007 NAC annual meeting. They will also include the Parke Board update, evaluations of the May 2007 annual meeting and plans for 2008 NAC annual meeting, to include workshops and plenary sessions.

On October 16, agenda topics will include 2009 NAC annual meeting planning, recommendations, from the May 2007 NAC annual meeting, subcommittee reports, standard operating procedure revisions, new business and Executive Committee appointments.

No time will be allocated at this meeting for receiving oral presentations from the public. However, interested persons may either attend or file statements with the Committee. Written statements may be field either before the meeting or within 10 days after the meeting and addressed to: Ms. Laura Balun, Designated Federal Officer, Voluntary Service Office (10C2), Department of Veterans Affairs, 810 Vermont Avenue, NW., Washington, DC 20420. Ms Balun can be contacted by phone at (202) 273-8952.

Dated: July 31, 2007.
By Direction of the Secretary.
E. Philip Riggins,
Committee Management Officer.

[FR Doc. 07-3854 Filed 8-7-07; 8:45 am]

BILLING CODE 8320-01-M